DEPARTMENT OF LABOR

Employment and Training Administration

Notice of Funding Opportunity and Solicitation for Grant Applications (SGA) for Serving Young Adult Ex-Offenders Through Training and Service-Learning

AGENCY: Employment and Training Administration, Labor.

ACTION: Notice of Solicitation for Grant Applications (SGA).

Funding Opportunity Number: SGA/DFA PY 11-03.

SUMMARY: Through this notice, the Department of Labor's Employment and Training Administration (ETA) announces the availability of approximately $30 million to serve juvenile offenders ages 18-21 who have been involved in the juvenile justice system from the age of 14 or above and have never been convicted as an adult under Federal or State Law. ETA expects to award a minimum of 20 grants at various amounts up to $1.5 million each to cover a 30-month period that includes up to four months of planning and a minimum of 26 months of operation. Any non-profit organization with IRS 501(c)(3) status, unit of state or local government, or any Indian and Native American entity eligible for grants under WIA Section 166 may apply for these grants. Service-learning projects conducted through these grants must integrate meaningful community service with instruction and reflection that enrich the learning experience, teach civic responsibility, and encourage lifelong civic engagement. Training provided through these grants is expected to lead to credentials recognized by in demand industries in the grantee's geographic area to be served.

Through service-learning, returning offenders are offered the opportunity to reestablish community-based trust while enhancing their work-based skills and status in their communities.

The complete SGA and any subsequent SGA amendments, in connection with this solicitation are described in further detail on ETA's Web site at http://www.doleta.gov/grants/ or on http://www.grants.gov. The Web sites provide application information, eligibility requirements, review and selection procedures and other program requirements governing this solicitation.

DATES: The closing date for receipt of applications is April 17, 2012.

FOR FURTHER INFORMATION CONTACT: Denise Roach, 200 Constitution Avenue NW., Room N-4716, Washington, DC 20210; Telephone: 202-693-3820.

The Grant Officer for this SGA is Latifa Jeter.

Signed February 13, 2012 in Washington, DC.
Eric D. Luetkenhaus,
Grant Officer, Employment and Training Administration.

[FR Doc. 2012-3773 Filed 2-16-12; 8:45 am]

BILLING CODE 4510-FT-P